SECURITIES AND EXCHANGE COMMISSION

Sunshine Act Meeting

Notice is hereby given, pursuant to the provisions of the Government in the Sunshine Act, Public Law 94-409, that the Securities and Exchange Commission will hold a Joint Open Meeting with the Commodity Futures Trading Commission to seek input from the public on harmonization of market regulation on September 2, 2009 from 9 a.m. until 5 p.m. at the CFTC and on September 3, 2009 from 9 a.m. until 12:30 p.m. at the SEC.

The Joint Open Meeting will take place on September 2, 2009 at the CFTC's headquarters at Three Lafayette Centre, 1155 21st Street, NW., Lobby Level Hearing Room (Room 1000), Washington, DC 20581 and on September 3, 2009 at the SEC's headquarters at 100 F Street, NE., Auditorium (Room L-002), Washington, DC 20549. The Joint Open Meeting will be open to the public with seating on a first-come, first-served basis. Visitors will be subject to security checks.

Discussion topics at the Joint Open Meeting will include the regulation of exchanges and markets; the regulation of intermediaries; the regulation of clearance and settlement; enforcement; and the regulation of investment funds. For further information, please contact: The Office of the Secretary at (202) 551-5400.

Dated: August 25, 2009.
Elizabeth M. Murphy,
Secretary.

[FR Doc. E9-20843 Filed 8-25-09; 4:15 pm]

BILLING CODE 8010-01-P